DEPARTMENT OF JUSTICE

Drug Enforcement Administration

[Docket No. DEA-686]

Bulk Manufacturer of Controlled Substances Application: Ampac Fine Chemicals LLC

Correction

Notice document 2020-16104, appearing on page 44924 in the issue of Friday, July 24th, 2020, was published as a duplicate of notice document 2020-16104 appearing on pages 44924-44925, and is withdrawn. Notice document 2020-16100, which should have published Friday, July 24, 2020, is republished elsewhere in this issue.

[FR Doc. C1-2020-16104 Filed 7-27-20; 8:45 am]

BILLING CODE 1301-00-D